DEPARTMENT OF ENERGY

Federal Energy Regulatory Commission

Combined Notice of Filings #1

Take notice that the Commission received the following electric rate filings:

Docket Numbers: ER10-1585-020; ER10-1594-020; ER10-1597-008; ER10-1617-020; ER10-1624-009; ER10-1628-020; ER10-1632-022; ER10-2385-010; ER12-60-022; ER16-1148-011; ER16-733-011.

Applicants: Alabama Electric Marketing, LLC, California Electric Marketing, LLC, Kiowa Power Partners, LLC, LQA, LLC, New Mexico Electric Marketing, LLC, Tenaska Energía de Mexico, S. de R.L. de C.V., Tenaska Gateway Partners, Ltd., Tenaska Power Management, LLC, Tenaska Power Services Co., Texas Electric Marketing, LLC, Elkhorn Ridge Wind, LLC.

Description: Notice of Change in Status of Alabama Electric Marketing, LLC, et al.

Filed Date: 7/21/21.

Accession Number: 20210721-5192.

Comments Due: 5 p.m. ET 8/11/21.

Docket Numbers: ER10-1901-013.

Applicants: Upper Peninsula Power Company.

Description: Notice of Non-Material Change in Status of Upper Peninsula Power Company.

Filed Date: 7/22/21.

Accession Number: 20210722-5176.

Comments Due: 5 p.m. ET 8/12/21.

Docket Numbers: ER15-1668-003.

Applicants: Phoenix Energy Group, LLC.

Description: Notice of Change in Status of Phoenix Energy Group, LLC.

Filed Date: 7/19/21.

Accession Number: 20210719-5225.

Comments Due: 5 p.m. ET 8/9/21.

Docket Numbers: ER21-46-000; EL10-56-000.

Applicants: Mercuria Energy America, LLC.

Description: Mercuria Energy America, LLC submits Supplement to October 7, 2020 Cost Justification Filing.

Filed Date: 7/19/21.

Accession Number: 20210719-5220.

Comments Due: 5 p.m. ET 8/9/21.

Docket Numbers: ER21-64-000; EL10-56-000.

Applicants: Macquarie Energy LLC.

Description: Macquarie Energy LLC submits Supplement to October 7, 2020 Cost Justification Filing.

Filed Date: 7/19/21.

Accession Number: 20210719-5224.

Comments Due: 5 p.m. ET 8/9/21.

Docket Numbers: ER21-1288-001.

Applicants: California Independent System Operator Corporation.

Description: Compliance filing: 2021-07-22 TCA Effective Date—Morongo to be effective 7/12/2021.

Filed Date: 7/22/21.

Accession Number: 20210722-5165.

Comments Due: 5 p.m. ET 8/12/21.

Docket Numbers: ER21-2450-000.

Applicants: Public Service Electric & Gas Company.

Description: Pre-Arranged/Pre-Agreed (Offer of Settlement and Petition for Approval) Filing of Public Service Electric and Gas Company.

Filed Date: 7/14/21.

Accession Number: 20210714-5178.

Comments Due: 5 p.m. ET 8/4/21.

Docket Numbers: ER21-2477-001.

Applicants: Tri-State Generation and Transmission Association, Inc.

Description: Tariff Amendment: Errata re: Rate Schedule Numbering, Correcting Rate Schedule 328 to 331 to be effective 7/22/2021.

Filed Date: 7/22/21.

Accession Number: 20210722-5117.

Comments Due: 5 p.m. ET 8/12/21.

Docket Numbers: ER21-2480-000.

Applicants: Nexus Line, LLC.

Description: Baseline eTariff Filing: Nexus Line, LLC TSA Rate Schedule to be effective 9/1/2021.

Filed Date: 7/21/21.

Accession Number: 20210721-5151.

Comments Due: 5 p.m. ET 8/11/21.

Docket Numbers: ER21-2481-000.

Applicants: Nevada Power Company.

Description: Compliance filing: Order No. 676-I Compliance to be effective N/A.

Filed Date: 7/22/21.

Accession Number: 20210722-5114.

Comments Due: 5 p.m. ET 8/12/21.

Docket Numbers: ER21-2482-000.

Applicants: AEP Texas Inc.

Description: § 205(d) Rate Filing: AEPTX-Prairie Switch Wind Generation Interconnection Agreement to be effective 7/6/2021.

Filed Date: 7/22/21.

Accession Number: 20210722-5129.

Comments Due: 5 p.m. ET 8/12/21.

Docket Numbers: ER21-2483-000.

Applicants: Alabama Power Company.

Description: § 205(d) Rate Filing: Origis Holdings USA Subco (Hammond I Solar & Storage) LGIA Filing to be effective 7/8/2021.

Filed Date: 7/22/21.

Accession Number: 20210722-5140.

Comments Due: 5 p.m. ET 8/12/21.

Docket Numbers: ER21-2484-000.

Applicants: Alabama Power Company.

Description: § 205(d) Rate Filing: Origis Holdings USA Subco (Hammond II Solar & Storage) LGIA Filing to be effective 7/8/2021.

Filed Date: 7/22/21.

Accession Number: 20210722-5141.

Comments Due: 5 p.m. ET 8/12/21.

Docket Numbers: ER21-2485-000.

Applicants: Midcontinent Independent System Operator, Inc., Otter Tail Power Company.

Description: § 205(d) Rate Filing: 2021-07-22_SA 3678 OTP-MRES-WMMPA TIA to be effective 10/1/2021.

Filed Date: 7/22/21.

Accession Number: 20210722-5168.

Comments Due: 5 p.m. ET 8/12/21.

Docket Numbers: ER21-2486-000.

Applicants: Midcontinent Independent System Operator, Inc.

Description: Compliance filing: 2021-07-22_MISO Waiver Request re: DRR-I Fast Start Resources to be effective N/A.

Filed Date: 7/22/21.

Accession Number: 20210722-5186.

Comments Due: 5 p.m. ET 8/12/21.

Docket Numbers: ER21-2487-000.

Applicants: Midcontinent Independent System Operator, Inc.

Description: § 205(d) Rate Filing: 2021-07-22_MISO Filing to Clarify Modeling of DRR-I re: SCED-Pricing to be effective 5/1/2022.

Filed Date: 7/22/21.

Accession Number: 20210722-5190.

Comments Due: 5 p.m. ET 8/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2021.
Debbie-Anne A. Reese,
Deputy Secretary.

[FR Doc. 2021-16065 Filed 7-27-21; 8:45 am]

BILLING CODE 6717-01-P